FEDERAL TRADE COMMISSION

16 CFR Part 310

Telemarketing Sales Rule

AGENCY: Federal Trade Commission.

ACTION: Final rule; correction.

SUMMARY: The Federal Trade Commission (“Commission”) published a final rule on August 10, 2010, adopting amendments to the Telemarketing Sales Rule that address the telemarketing of debt relief services. This document makes technical corrections to that final rule.

DATES: Effective Date: September 27, 2010.

FOR FURTHER INFORMATION CONTACT: Allison Brown, Attorney, Division of Financial Practices, Bureau of Consumer Protection, Federal Trade Commission, Washington, DC 20580 (202-326-3224).

SUPPLEMENTARY INFORMATION: In FR Doc. 2010-19412 appearing on page 48458 in the Federal Register of Tuesday, August 10, 2010, the following corrections are made:

§ 310.8 [Corrected]

1. On page 48523, in the first column, in § 310.8 (c), “$54” is corrected to read “$55” and, “$14,580” is corrected to read “$15,058”.

§ 310.8 [Corrected]

2. On the same page, in the second column, in § 310.8 (d), in the fourth line, “$54” is corrected to read “$55”.

Donald S. Clark,
Secretary.

[FR Doc. 2010-20680 Filed 8-23-10; 8:45 am]

BILLING CODE 6750-01-P